FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011510-017.

Title: West African Discussion Agreement.

Parties: Atlantic Bulk Carriers, Ltd., HUAL AS, A.P. Moller Maersk Sealand, Mediterranean Shipping Company, P&O Nedlloyd Limited, Safmarine Container Lines NV, Zim Israel Navigation Company Ltd.

Synopsis: The amendment adds Safmarine Container Lines as a party to the agreement effective February 1, 2003.

Agreement No.: 011802-001.

Title: Evergreen/Lloyd Triestino/Hatsu Marine Alliance-WTSA Bridging Agreement.

Parties: The Evergreen/Lloyd Triestino/Hatsu Marine Alliance Agreement, Westbound Transpacific Stabilization Agreement.

Synopsis: The amendment updates the membership of the Westbound Transpacific Stabilization Agreement.

Agreement No.: 011839.

Title: Med-Gulf Space Charter Agreement.

Parties: Compania Chilena de Navegacion Interoceanica, Compania Sud-Americana de Vapores S.A., Lykes Lines Limited LLC.

Synopsis: The proposed agreement authorizes Lykes to charter space to the other parties in the trade between U.S. Gulf ports, including Miami, Florida, and San Juan, Puerto Rico, on the one hand, and ports in Spain, Italy, and Mexico, on the other hand.

Agreement No.: 201026-002.

Title: Port of New Orleans/P&O Ports Lease.

Parties: Port of New Orleans, P&O Ports Louisiana, Inc.

Synopsis: The modification expands the leased premises under the basic lease. The additional space may be used on an as-needed basis.

By Order of the Federal Maritime Commission.
Dated: January 31, 2003.
Bryant L. VanBrakle,
Secretary.

[FR Doc. 03-2791 Filed 2-4-03; 8:45 am]

BILLING CODE 6730-01-P